DEPARTMENT OF THE TREASURY

Internal Revenue Service

Proposed Collection; Comment Request for Notice 2017-09

AGENCY: Internal Revenue Service (IRS), Treasury.

ACTION: Notice and request for comments.

SUMMARY: The Department of the Treasury, as part of its continuing effort to reduce paperwork and respondent burden, invites the general public and other Federal agencies to take this opportunity to comment on proposed and/or continuing information collections, as required by the Paperwork Reduction Act of 1995. Currently, the IRS is soliciting comments concerning Notice 2017-09, De Minimis Error Safe Harbor to the I.R.C. §§ 6721 and 6722 Penalties.

DATES: Written comments should be received on or before June 12, 2017 to be assured of consideration.

ADDRESSES: Direct all written comments to Laurie Brimmer, Internal Revenue Service, Room 6526, 1111 Constitution Avenue NW., Washington, DC 20224.

Requests for copies of the form and instructions should be directed to Martha Brinson, at Internal Revenue Service, Room 6526, 1111 Constitution Avenue NW., Washington, DC 20224, or through the internet at Martha.R.Brinson@irs.gov.

SUPPLEMENTARY INFORMATION:

Title: De Minimis Error Safe Harbor to the I.R.C. §§ 6721 and 6722 Penalties.

OMB Number: 1545-2270.

Notice Number: 2017-09.

Abstract: Under 6722(c)(3)(B) payees may elect that an exception to penalties not apply so that penalties may apply if payors don't provide corrected returns and statements. The collection of information will be this election, a retraction of the election, or specified retention of records of elections or retractions. The collection is necessary for the effective operation of the exception and election framework. Respondents are payees or payors.

Current Actions: There are no changes being made to the collection at this time.

Type of Review: Extension of a currently approved collection.

Affected Public: Individuals or Households.

Estimated Number of Annual Responses: 8,984,600.

Estimated Time per Response: 5 minutes.

Estimated Total Annual Burden Hours: 760,569.

The following paragraph applies to all of the collections of information covered by this notice:

An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: March 29, 2017.
Laurie Brimmer,
IRS Senior Tax Analyst.

[FR Doc. 2017-07196 Filed 4-10-17; 8:45 am]

BILLING CODE 4830-01-P